NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: February 18, 2004, 9 AM-5:30 PM and February 19, 2004, 8:30 AM—1:30 PM.

Place: National Science Foundation, 4201 Wilson Boulevard, Room 1235S, Arlington, VA 22230.

Type of Meeting: Open.

FOR FURTHER INFORMATION CONTACT: Dr. Margaret E.M. Tolbert, Senior Advisor and Executive Liaison, CEOSE, Office of Intergrative Activities, National Science Foundation, 4201 Wilson Boulevard, Arlington, VA 22230, Telephone: (703) 292-8040.

Minutes: May be obtained from the Executive Liaison at the above address.

Purpose of Meeting: To provide advice and recommendations concerning broadening participation in science and engineering.

Agenda

Wednesday, February 18, 2004

Briefing by the NSF Executive Liaison to CEOSE

Reports on NSF Advisory Committees by CEOSE Liaisons

Presentation and Discussion of the Crisis of African American Males

Discussion with One or More NSF Senior Executives

Presentation and Discussion on the Preparation Status of CEOSE Congressional Reports Required by H.R. 4664, SEC 20

Discussion of Plans for the CEOSE 2004 Biennial Report to Congress

Thursday, February 19, 2004

Reports of Ad Hoc Subcommittee Chairs

Discussion of Plans for the Offsite Meeting of CEOSE

Completion of Unfinished Business

Refinement of Recommendations and Action Items Resulting from the Meeting

Dated: January 21, 2004.
Susanne Bolton,
Committee Management Officer.

[FR Doc. 04-1515 Filed 1-23-04; 8:45 am]

BILLING CODE 7555-01-M